DEPARTMENT OF THE INTERIOR

Bureau of Land Management

[LLCAC00000 L07770900 XZ0000]

Notice of Public Meeting of the Carrizo Plain National Monument Advisory Council

AGENCY: Bureau of Land Management, Interior.

ACTION: Notice of public meeting.

SUMMARY: In accordance with the Federal Land Policy and Management Act and the Federal Advisory Committee Act of 1972, the U.S. Department of the Interior, Bureau of Land Management (BLM) Carrizo Plain National Monument Advisory Council (MAC) will meet as indicated below.

DATES: The meeting will be held on Saturday, June 25, 2011, at the Carrisa Plains Elementary School, located approximately 2 miles northwest of Soda Lake Road on Highway 58. The meeting will begin at 10 a.m. and finish at 2:15 p.m. The meeting will focus on accomplishments completed and implementation strategy for the Carrizo Plain National Monument. There will be a public comment period from 1:15 p.m. to 2:15 p.m. Lunch will be available for $8.

FOR FURTHER INFORMATION CONTACT: The BLM, attention: Johna Hurl, Monument Manager, 3801 Pegasus Drive, Bakersfield, CA 93308. Phone (661) 391-6093 or e-mail: jhurl@blm.gov.

SUPPLEMENTARY INFORMATION: The nine-member MAC advises the Secretary of the Interior, through the BLM, on a variety of public land issues associated the public land management in the Carrizo Plain National Monument in Central California. At this meeting, Monument staff will present updated information on implementation planning for the RMP/EIS and accomplishments. This meeting is open to the public. Depending on the number of persons wishing to comment, and the time available, the time allotted for individual oral comments may be limited. Individuals who plan to attend and need special assistance such as sign language interpretation or other reasonable accommodations should contact the BLM as indicated above.

Dated: April 11, 2011.
Johna Hurl,
Monument Manager.

[FR Doc. 2011-9863 Filed 4-21-11; 8:45 am]

BILLING CODE 4310-40-P